DEPARTMENT OF LABOR

Employment and Training Administration

[TA-W-71,689]

Clopay Building Products, Baldwin, WI; Notice of Termination of Investigation

Pursuant to Section 223 of the Trade Act of 1974, as amended, an investigation was initiated in response to a petition filed on July 16, 2009 by a company official on behalf of workers of Clopay Building Products, Baldwin, Wisconsin.

The petitioner has requested that the petition be withdrawn. Consequently, the investigation has been terminated.

Signed at Washington, DC, this 8th day of September 2009.
Richard Church,
Certifying Officer, Division of Trade Adjustment Assistance.

[FR Doc. E9-29176 Filed 12-7-09; 8:45 am]

BILLING CODE 4510-FN-P